DEPARTMENT OF JUSTICE

Office of Justice Programs

[OMB Number 1121-NEW]

Agency Information Collection Activities: Proposed Collection; Comments Requested

ACTION: 60-Day Notice of Information Collection Under Review: Assessing the Performance of Juvenile DNA System.

The Urban Institute, Justice Policy Center, will be submitting the following information collection request to the Office of Management and Budget (OMB) for review and approval in accordance with the Paperwork Reduction Act of 1995. The proposed information collection is published to obtain comments from the public and affected agencies. Comments are encouraged and will be accepted for “sixty days” until May 11, 2009. This process is conducted in accordance with 5 CFR 1320.10.

If you have comments especially on the estimated public burden or associated response time, suggestions, or need a copy of the proposed information collection instrument with instructions or additional information, please contact Simon Tidd, The Urban Institute Justice Policy Center, 2100 M Street, NW., Washington, DC 20037.

Written comments and suggestions from the public and affected agencies concerning the proposed collection of information are encouraged. Your comments should address one or more of the following four points:

—Evaluate whether the proposed collection of information is necessary for the proper performance of the functions of the agency, including whether the information will have practical utility;

—Evaluate the accuracy of the agencies estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of This Information Collection

(1) Type of Information Collection: Telephone interviews with state lab directors and SDIS administrators. Collection of summary statistics on juvenile DNA records within CODIS.

(2) Title of the Form/Collection: Assessing the Performance of Juvenile DNA System

(3) Agency form number, if any, and the applicable component of the Department of Justice sponsoring the collection: Form Number: National Institute of Justice, Office of Justice Programs, No form number.

(4) Affected public who will be asked or required to respond, as well as a brief abstract: Primary: State Crime Lab Directors. Other: State CODIS personnel. The Urban Institute has been funded by the NIJ to examine the collection and use of juvenile DNA. We will establish the state-specific policies and practices through interviews with state lab personnel and non-identifiable summary data on the number of juveniles included in SDIS and the DNA crime matches attributed to that population. This data can then be used to assess the value of juvenile DNA records from the practitioner perspective and inform DNA policy decisions at the local, state, and Federal level.

(5) An estimate of the total number of respondents and the amount of time estimated for an average respondent to respond: Interviews will occur with one state crime lab director and CODIS administrator in each state, for a total of 70 estimated respondents. Telephone interviews are expected to take 1 hour each (35 respondents). Summary statistic collection is expected to take 3 hours (35 respondents); 1 hour for discussion with us, 1.5 hours for the actually data pull, and .5 hours to format and transmit the summary statistics.

(6) An estimate of the total public burden (in hours) associated with the collection: The total estimated burden hours to complete both interviews and data collection is 140 hours.

If additional information is required contact: Lynn Bryant, Department Clearance Officer, United States Department of Justice, Planning and Policy Staff, Justice Management Division, 601 D Street, NW., Suite 1600, Washington, DC 20530.

Dated: March 6, 2009.
Lynn Bryant,
Department Clearance Officer, PRA, United States Department of Justice.

[FR Doc. E9-5240 Filed 3-10-09; 8:45 am]

BILLING CODE 4410-18-P